DEPARTMENT OF HOMELAND SECURITY

[Docket No. DHS-2011-0055]

Critical Infrastructure Partnership Advisory Council

AGENCY: Department of Homeland Security.

ACTION: Committee Management; Notice of Federal Advisory Committee Meeting.

SUMMARY: The Critical Infrastructure Partnership Advisory Council (CIPAC) Plenary Meeting will be held on Thursday, October 6, 2011, at the Renaissance Washington Downtown Hotel, Washington, DC. The meeting will be open to the public.

DATES: The CIPAC Plenary will be held on Thursday, October 6, 2011, from 8:30 a.m.-4:45 p.m. Registration will begin at 7:30 a.m. Please note that the meeting may adjourn early if the committee has completed its business. For additional information, please consult the CIPAC Web site, http://www.dhs.gov/cipac, or contact the CIPAC Secretariat by phone at 703-235-3999 or by e-mail at cipac@dhs.gov.

ADDRESSES: The meeting will be held at the Renaissance Washington Downtown Hotel, 999 Ninth Street, NW., Washington, DC 20001.

While this meeting is open to the public, participation in the CIPAC deliberations is limited to committee members, Department of Homeland Security officials, and persons invited to attend the meeting for special presentations.

Immediately following the committee member deliberation and discussion period, there will be a limited time period for public comment. This public comment period is designed for substantive commentary that must pertain only to matters involving critical infrastructure protection and resiliency. Off-topic questions or comments will not be permitted or discussed. To accommodate as many speakers as possible, oral presentations will be limited to three (3) minutes per speaker, with no more than 60 minutes for all speakers. Parties interested in presenting must register in person at the meeting location. Oral presentations will be permitted on a first come, first served basis, and given based upon the order of registration; all registrants may not be able to speak if time does not permit.

Written comments are welcome at any time prior to or following the meeting. Written comments may be sent to Nancy Wong, Department of Homeland Security, National Protection and Programs Directorate, 245 Murray Lane, SW., Mail Stop 0607, Arlington, VA 20598-0607. For consideration in the CIPAC deliberations, written comments must be received by Nancy Wong by no later than October 5, 2011, identified by Federal Register Docket Number DHS-2011-0055 and may be submitted by one of the following methods:

• Federal eRulemaking Portal: http://www.regulations.gov. Follow the instructions for submitting written comments.

• E-mail: CIPAC@dhs.gov. Include the docket number in the subject line of the message.

• Fax: 703-603-5098.

• Mail: Nancy Wong, National Protection and Programs Directorate, Department of Homeland Security, 245 Murray Lane, SW., Mail Stop 0607, Arlington, VA 20598-0607

Instructions: All written submissions received must include the words “Department of Homeland Security” and the docket number for this action. Written comments received will be posted without alteration at http://www.regulations.gov, including any personal information provided.

Docket: For access to the docket to read background documents or comments received by the CIPAC, go to http://www.regulations.gov.

FOR FURTHER INFORMATION CONTACT: Renee Murphy, Section Chief Partnership Programs, Partnership and Outreach Division, Office of Infrastructure Protection, National Protection and Programs Directorate, Department of Homeland Security, 245 Murray Lane, SW., Mail Stop 0607, Arlington, VA 20598-0607, telephone 703-235-3999 or via e-mail at CIPAC@dhs.gov.

SUPPLEMENTARY INFORMATION: CIPAC represents a partnership between the Federal Government and critical infrastructure owners and operators and provides a forum in which they can engage in a broad spectrum of activities to support and coordinate critical infrastructure protection and resilience.

The CIPAC will meet to discuss issues relevant to the protection and resilience of critical infrastructure. The October 6, 2011, meeting will include panel discussions among participating members regarding current issues in critical infrastructure protection.

Information on Services for Individuals with Disabilities:

For information on facilities or services for individuals with disabilities or to request special assistance at the meeting, contact the CIPAC Secretariat at 703-235-3999 as soon as possible.

Dated: August 26, 2011.
Nancy Wong,
Designated Federal Officer for the CIPAC.

[FR Doc. 2011-22960 Filed 9-7-11; 8:45 am]

BILLING CODE P